DEPARTMENT OF THE INTERIOR

National Park Service

Notice of Inventory Completion: Museum of Anthropology, Washington State University, Pullman, WA; Correction

AGENCY: National Park Service, Interior.

ACTION: Notice; correction.

Notice is here given in accordance with the Native American Graves Protection and Repatriation Act (NAGPRA), 25 U.S.C. 3003, of the completion of an inventory of human remains and associated funerary objects in the possession of the Museum of Anthropology, Washington State University, Pullman, WA. The human remains and associated funerary objects were removed from Grays Harbor County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Museum of Anthropology, Washington State University professional staff in consultation with representatives of the Confederated Tribes of the Chehalis Reservation, Washington.

This notice is an addition to the minimum number of individuals removed from the Minard site (45-GH-15) in Grays Harbor County, WA, which were previously described in a Notice of Inventory Completion published in the Federal Register of May 17, 2007 (FR Doc. E7-9455, pages 27845-27846). In January of 2008, Dr. Lourdes DeLeon, a physical anthropologist at Central Washington University, prepared a description of a number of sets of human remains known as the “Former Teaching Collection at Washington State University.” During the course of this work she identified the remains of two individuals who, based on the color of the bone, were believed to have been buried in a shell midden. Examination of photographs taken during the burial excavations done at the Minard site indicated that these were human remains formerly determined to be missing from the Minard collection.

In the Federal Register notice of May 17, 2007, paragraph 4 is corrected by substituting the following paragraphs:

In 1969 and 1970, human remains representing a minimum of 11 individuals were removed from the Minard site (45-GH-15) in Grays Harbor County, WA, by Richard Daugherty, an employee, and Tom E. Roll, a graduate student, of Washington State University. The excavations were conducted under research funds allocated by the Washington State Legislature. No known individuals were identified. The 82 associated funerary objects are 2 nipple topped mauls, 1 ground slate knife, 1 ground stone club, 1 necklace of rolled copped and dentalium section beads, 1 straight adze with a whale bone handle and metal blade, 1 knife or small adze-chisel with a bone handle and metal blade, 1 metal chisel, 1 metal awl, 1 lot of metal fragments from wood working tools, 5 lots of nails, 2 lots of glass beads, 2 lots of tin can fragments, 5 lots of unidentified metal fragments, 2 spoons, 3 lots of wood fragments, 14 thimbles on a string, 1 lot of unidentified plant material, and 38 lots of dishes and dish fragments.

In the Federal Register notice of May 17, 2007, paragraph 6 is corrected by substituting the following paragraph:

Officials of the Museum of Anthropology, Washington State University have determined that, pursuant to 25 U.S.C. 3001 (9-10), the human remains described above represent the physical remains of 11 individuals of Native American ancestry. Officials of the Museum of Anthropology, Washington State University also have determined that, pursuant to 25 U.S.C. 3001 (3)(A), the 82 objects described above are reasonably believed to have been placed with or near individual human remains at the time of death or later as part of the death rite or ceremony. Lastly, officials of the Museum of Anthropology, Washington State University have determined that, pursuant to 25 U.S.C. 3001 (2), there is a relationship of shared group identity that can be reasonably traced between the Native American human remains and associated funerary objects and the Confederated Tribes of the Chehalis Reservation, Washington.

Representatives of any other Indian tribe that believes itself to be culturally affiliated with the human remains and associated funerary items should contact Mary Collins, Director of the Museum of Anthropology, Washington State University, P.O. Box 62291, Pullman, WA 99164-4910, telephone (509) 335-4314, before September 22, 2008. Repatriation of the human remains and associated funerary objects to the Confederated Tribes of the Chehalis Reservation, Washington may proceed after that date if no additional claimants come forward.

The Museum of Anthropology, Washington State University is responsible for notifying the Confederated Tribes of the Chehalis Reservation, Washington that this notice has been published.

Dated: July 28, 2008
Sherry Hutt,
Manager, National NAGPRA Program.

[FR Doc. E8-19308 Filed 8-20-08; 8:45 am]

BILLING CODE 4312-50-S